SECURITIES AND EXCHANGE COMMISSION

[File No. 500-1]

In the Matter of Homeland Security Network, Inc.; Order of Suspension of Trading

April 5, 2005.

It appears to the Securities and Exchange Commission that there is a lack of current and accurate information concerning the securities of Homeland Security Network, Inc. (“HSYN”) because the company is delinquent in its periodic filing obligations under section 13(a) of the Securities Exchange Act of 1934 and because of possible manipulative conduct occurring in the market for the company's stock.

The Commission is of the opinion that the public interest and the protection of investors require a suspension of trading in the securities of the above-listed company.

Therefore, it is ordered, pursuant to section 12(k) of the Securities Exchange Act of 1934, that trading in the above-listed company is suspended for the period from 9:30 a.m. e.d.t., on April 5, 2005, through 11:59 p.m. e.d.t., on April 18, 2005.

By the Commission.
Jill M. Peterson,
Assistant Secretary.

[FR Doc. 05-7025 Filed 4-5-05; 11:35 am]

BILLING CODE 8010-01-P